DEPARTMENT OF STATE

[Public Notice 4995]

Department of State Performance Review Board Members (for Non-Career Senior Executive Employees)

In accordance with section 4314(c)(4) of the Civil Service Reform Act of 1978 (Public Law 95-454), the Executive Resources Board of the Department of State has appointed the following individuals to the Department of State Performance Review Board (for Non-Career Senior Executive Employees): Kara G. LiCalsi, Senior Advisor to the Secretary and White House Liaison, Department of State; Christopher B. Burnham, Assistant Secretary for Resource Management and Chief Financial Officer, Department of State; Brian F. Gunderson, Chief of Staff, Office of the Secretary, Department of State.

W. Robert Pearson,
Director General of the Foreign Service and Director of Human Resources, Department of State.

[FR Doc. 05-3367 Filed 2-18-05; 8:45 am]

BILLING CODE 4710-15-P